FEDERAL COMMUNICATIONS COMMISSION

Notice of Public Information Collection(s) Being Reviewed by the Federal Communications Commission

August 13, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 19, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION OMB Control No.: 3060-0313.

Title: Section 76.1701 Political File.

Form No.: N/A.

Type of Review: Extension of currently approved collection.

Respondents: Business or other for-profit.

Number of Respondents: 5,375.

Estimated Time Per Response: 1 hour.

Frequency of Response: Recordkeeping reporting requirement.

Total Annual Burden: 5,375 hours.

Total Annual Cost: $0.

Needs and Uses: Section 76.1701 (formerly section 76.207) requires every cable television system to keep and permit public inspection of a complete record (political file) of all requests for cablecast time made by or on behalf of candidates for public office, together with an appropriate notation showing the disposition made by the system of such requests, and the charges made, if any, if the request is granted. The data are used by the public to assess the amount of money expended and time allotted to a political candidate to ensure that equal access was afforded to other legally qualified candidates for public office.

OMB Control No.: 3060-0500.

Title: Section 76.1713 Resolution of complaints.

Form No.: N/A.

Type of Review: Extension of currently approved collection.

Respondents: Business or other for-profit.

Number of Respondents: 10,400.

Estimated Time Per Response: 18 hours.

Frequency of Response: Recordkeeping and Third Party Disclosure reporting requirements.

Total Annual Burden: 187,200 hours (includes 176,800 recordkeeping requirement).

Total Annual Cost: $0.

Needs and Uses: Section 76.1713, formerly section 76.607, of the Commission's rules requires cable system operators to advise subscribers at least once each calendar year of the production for resolution of complaints about the quality of television signals delivered. Section 76.1713 also requires that records be maintained by cable system operators on all such subscriber complaints and resolution of complaints for at least a one-year period. The data are used by local franchising authorities to assess the technical performance of cable television systems and to ensure that quality service is being provided to subscribers.

Federal Communications Commission.
Magalie Roman Salas,
Secretary.

[FR Doc. 01-20861 Filed 8-17-01; 8:45 am]

BILLING CODE 6712-01-P